DEPARTMENT OF COMMERCE

National Oceanic and Atmospheric Administration

Pacific Fishery Management Council; Public Meeting

AGENCY: National Marine Fisheries Service (NMFS), National Oceanic and Atmospheric Administration (NOAA), Commerce.

ACTION: Notice of a public meeting.

SUMMARY: The Pacific Fishery Management Council's (Council) Ad Hoc Amendment 24 Workgroup will hold a work session, which is open to the public.

DATES: The Workgroup's work session will occur from 1 p.m. to 4:30 p.m. on Wednesday, August 1 and continue on Thursday, August 2, 2012, from 8:30 a.m. to 4:30 p.m.

ADDRESSES: The work sessions will be held at the Building 9 Large Conference Room, NOAA Fisheries, NOAA Western Regional Center, 7600 Sand Point Way NE., Seattle, WA 98115-6349.

Council address: Pacific Fishery Management Council, 7700 NE Ambassador Place, Suite 101, Portland, OR 97220-1384.

FOR FURTHER INFORMATION CONTACT: Mr. Kevin Duffy, NOAA Fisheries Northwest Region, (206) 526-4743 or Dr. Kit Dahl, Pacific Fishery Management Council; telephone: (503) 820-2280.

SUPPLEMENTARY INFORMATION: The Council formed the Amendment 24 Workgroup to develop proposals for modifying the process to periodically establish and adjust harvest levels and management measures for the Pacific Coast groundfish fishery. Currently Council decisionmaking occurs every 2 years to set harvest specifications and management measures for the next 2-year period. Coordinating Council decisionmaking with the procedural requirements of the National Environmental Policy Act, Administrative Procedure Act, and the Magnuson-Stevens Fishery Conservation and Management Act, such that National Marine Fisheries Service may implement regulations at the start of the next fishing year (January 1), has proved difficult. The Workgroup will develop alternatives to the current biennial process to address problems with timely implementation. These alternatives will be presented to the Council at a future meeting. The Council may then adopt an alternative for implementation, which may require an amendment to the Pacific Coast Groundfish Fishery Management Plan.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Authority: 16 U.S.C. 1801 et seq.

Dated: July 5, 2012.
Tracey L. Thompson,
Acting Director, Office of Sustainable Fisheries, National Marine Fisheries Service.

[FR Doc. 2012-16802 Filed 7-9-12; 8:45 am]

BILLING CODE 3510-22-P